DEPARTMENT OF COMMERCE

National Oceanic and Atmospheric Administration

[I.D. 021100D]

Bluefin Tuna Recreational Landings Reports; Proposed Information Collection; Request for Comments

AGENCY: National Marine Fisheries Service (NMFS), National Oceanic and Atmospheric Administration (NOAA), Commerce.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 17, 2000.

ADDRESSES: Direct all written comments to Linda Engelmeier, Departmental Forms Clearance Officer, Department of Commerce, Room 5027, 14th and Constitution Avenue NW, Washington DC 20230 (or via Internet at LEngelme@doc.gov).

FOR FURTHER INFORMATION CONTACT: Requests for additional information or copies of the information collection instrument(s) and instructions should be directed to Christopher Rogers, Highly Migratory Species Management Division (F/SF1), Office of Sustainable Fisheries, NMFS, 1315 East-West Highway, Silver Spring, MD 20910; 301-713-2347.

SUPPLEMENTARY INFORMATION:

I. Abstract

Under the provisions of the Magnuson-Stevens Fishery Conservation and Management Act (16 U.S.C. 1801 et seq.), NOAA is responsible for management of the Nation's marine fisheries. In addition, NOAA must comply with the United States' obligations under the Atlantic Tunas Convention Act of 1975 (16 U.S.C. 971 et seq.). The National Marine Fisheries Service (NMFS) collects information via angler landings reports to monitor the U.S. recreational catch of bluefin tuna in relation to the quota, thereby ensuring that the United States complies with its international obligations to the International Commission for the Conservation of Atlantic Tunas (ICCAT). Provisions of the domestic regulations are also monitored through this collection of information, such as compliance with area closures, fishing seasons, and regional subquotas. This information provides the catch data necessary to assess the status of bluefin tuna resources. Assessments are conducted and presented to ICCAT annually. The data provide, in part, the basis for ICCAT management recommendations which become binding on member nations. In addition, angler landings reports provide essential information for domestic management policy and rulemaking.

II. Method of Collection

Recreational anglers who land any size class Atlantic bluefin tuna are required to report those landings to NMFS via a an automated landings reporting system (ALRS) accessible toll-free by touch-tone telephone. The ALRS collects certain information for each Atlantic bluefin tuna that is landed. NMFS' regulations allow for cooperative efforts with the states and

in recent years, North Carolina and Maryland have implemented a catch card and landing tag system to census landings of bluefin tuna. In such cases of an equivalent state program, anglers are exempted from the requirement to use the ALRS.

III. Data

OMB Number: 0648-0328.

Form Number: None.

Type of Review: Regular submission.

Affected Public: Individuals (recreational fishermen), business and other for-profit (charter boat operators).

Estimated Number of Respondents: 3,000.

Estimated Time Per Response: 5 minutes for automated telephone reports, 10 minutes for landing cards.

Estimated Total Annual Burden Hours: 850.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: February 10, 2000.
Linda Engelmeier,
Departmental Forms Clearance Officer, Office of the Chief Information Officer.

[FR Doc. 00-3721 Filed 2-15-00; 8:45 am]

BILLING CODE 3510-22-F